DEPARTMENT OF COMMERCE

International Trade Administration

[C-570-946]

Pre-Stressed Concrete Steel Wire Strand from the People's Republic of China: Final Affirmative Countervailing Duty Determination

AGENCY: Import Administration, International Trade Administration, Department of Commerce.

SUMMARY: The Department of Commerce (the Department) determines that countervailable subsidies are being provided to producers and exporters of pre-stressed concrete steel wire strand from the People's Republic of China (the PRC). For information on the estimated subsidy rates, see the “Suspension of Liquidation” section of this notice.

EFFECTIVE DATE: May 21, 2010.

FOR FURTHER INFORMATION CONTACT: Robert Copyak, AD/CVD Operations, Office 3, Operations, Import Administration, U.S. Department of Commerce, Room 4014, 14th Street and Constitution Avenue, NW, Washington, DC 20230; telephone: (202) 482-2209.

SUPPLEMENTARY INFORMATION:

Background

This investigation covers 61 programs and the following producers/exporters: Fasten Group Import & Export Co., Ltd. (Fasten I&E), Fasten Group Corporation (Fasten Corp.), Jiangyin Fasten Steel (Fasten Steel), Jiangyin Hongyu Metal Products Co., Ltd. (Hongyu Metal), Jiangyin Walsin Steel Cable Co., Ltd. (Walsin) and Jiangyin Hongsheng Co., Ltd. (Hongsheng) (collectively, the Fasten Companies) and Xinhua Metal Products Company (Xinhua), Xinyu Iron and Steel Joint Stock Limited Company (Xinyu), and Xinyu Iron and Steel Limited Liability Company (Xingang) (collectively, the Xinhua Companies). The petitioners in this investigation are American Spring Wire Corp., Insteel Wire Products Company, and Sumiden Wire Products Corp. (collectively, the petitioners).

Period of Investigation

The period of investigation (the POI) for which we are measuring subsidies is January 1, 2008, through December 31, 2008, which corresponds to the PRC's most recently completed fiscal year. See 19 CFR 351.204(b)(2).

Case History

The following events have occurred since the Department announced the Preliminary Determination on October 27, 2009. See Pre-Stressed Concrete Steel Wire Strand from the People's Republic of China: Preliminary Affirmative Countervailing Duty Determination, 74 FR 56756 (November 2, 2009) (Preliminary Determination).

From November 3, 2009, through December 23, 2009, we issued supplemental questionnaires to Government of the PRC (the GOC), the Fasten Companies, and the Xinhua Companies. From November 9, 2009, through January 25, 2010, the GOC, the Fasten Companies, and the Xinhua Companies submitted supplemental questionnaire responses. On October 28, 2009, petitioners requested that the Department align the due date of the final determination of the countervailing duty (CVD) investigation with the due date of the final determination in the companion antidumping (AD) investigation. On November 13, 2009, the Department aligned the due date of the final determination in the CVD investigation with the due date of the final determination in the AD investigation. See Pre-Stressed Concrete Steel Wire Strand from the People's Republic of China: Alignment of Final Countervailing Duty Determination with Final Antidumping Duty Determination, 74 FR 59960 (November 19, 2009). On November 20, 2009, the Xinhua Companies submitted a request for a public hearing. From November 23, 2009, through January 22, 2010, we issued verification outlines to the Fasten Companies, the GOC, and the Xinhua Companies. From January 14, 2010, through February 3, 2010, verifiers from the Department conducted verification of the questionnaire responses submitted by the Fasten Companies, the Xinhua Companies, and the GOC. From February 23, 2010, through March 9, 2010, we issued verification reports for the GOC, the Fasten Companies, and the Xinhua Companies. On March 16 and March 24, interested parties submitted their case and rebuttal briefs. On April 14, 2010, the Department placed on the record of the investigation publicly available information concerning the provision of wire rod for less than adequate remuneration (LTAR) program. See Memorandum to the File from Eric B. Greynolds, Program Manager, Office 3, Operations (April 14, 2010) (New Information Memorandum). On April 21 and 26, 2010, interested parties submitted comments and clarifying information concerning the information the Department placed on the record.

As explained in the memorandum from the Deputy Assistant Secretary for Import Administration, the Department has exercised its discretion to toll deadlines for the duration of the closure of the Federal Government from February 5, through February 12, 2010. Thus, all deadlines in this segment of the proceeding have been extended by seven days. The revised deadline for this CVD investigation is now May 14, 2010. See Memorandum to the Record from Ronald K Lorentzen, Deputy Assistant Secretary for Import Administration, regarding “Tolling of Administrative Deadlines As a Result of the Government Closure During the Recent Snowstorm,” dated February 12, 2010.”

Scope of Investigation

For purposes of this investigation, PC strand is steel wire strand, other than of stainless steel, which is suitable for use in, but not limited to, pre-stressed concrete (both pre-tensioned and post-tensioned) applications. The scope of this investigation encompasses all types and diameters of PC strand whether uncoated (uncovered) or coated (covered) by any substance, including but not limited to, grease, plastic sheath, or epoxy. This merchandise includes, but is not limited to, PC strand produced to the American Society for Testing and Materials (ASTM) A-416 specification, or comparable domestic or foreign specifications. PC strand made from galvanized wire is excluded from the scope if the zinc and/or zinc oxide coating meets or exceeds the 0.40 oz./ft2 standard set forth in ASTM-A-475.

The PC strand subject to this investigation is currently classifiable under subheadings 7312.10.3010 and 7312.10.3012 of the Harmonized Tariff Schedule of the United States (HTSUS). Although the HTSUS subheadings are provided for convenience and customs purposes, the written description of the scope of this investigation is dispositive.

Injury Test

Because the PRC is a “Subsidies Agreement Country” within the meaning of section 701(b) of the Act, the International Trade Commission (the ITC) is required to determine whether imports of the subject merchandise from the PRC materially injure, or threaten material injury to, a U.S. industry. On July 17, 2009, the ITC published its preliminary determination finding that there is a reasonable indication that an industry in the United States is materially injured or threatened with material injury by reason of imports from the PRC of the subject merchandise. See Pre-Stressed Concrete Steel Wire Strand from China, Investigation Nos. 701-TA-464 and 731-TA-1160 (Preliminary), 74 FR 34782 (July 17, 2009).

Analysis of Comments Received

All issues raised in the case and rebuttal briefs by parties to this investigation are addressed in the Decision Memorandum. Attached to this notice as an Appendix is a list of the issues that parties raised and to which we have responded in the Decision Memorandum. Parties can find a complete discussion of all issues raised in this investigation and the corresponding recommendations in this public memorandum, which is on file in the Department's Central Records Unit. In addition, a complete version of the Decision Memorandum can be accessed directly on the Internet at http://ia.ita.doc.gov/frn/. The paper copy and electronic version of the Decision Memorandum are identical in content.

Suspension of Liquidation

In accordance with section 705(c)(1)(B)(i)(I) of the Act, we have calculated an individual rate for the companies under investigation: the Fasten Companies and the Xinhua Companies. Sections 703(d) and 705(c)(5)(A) of the Act state that for companies not investigated, we will determine an all-others rate by weighting the individual company subsidy rate of each of the companies investigated by each company's exports of the subject merchandise to the United States. The all-others rate may not include zero and de minimis net subsidy rates, or any rates based solely on the facts available.

Notwithstanding the language of section 705(c)(1)(B)(i)(I) of the Act, we have not calculated the all-others rate by weight averaging the rates of the Fasten Companies and the Xinhua Companies because doing so risks disclosure of proprietary information. Therefore, for the all-others rate, we have calculated a simple average of the two responding firms' rates.

Producer/Exporter | Subsidy Rate
Fasten Group Corporation (Fasten Corp.), Fasten Group Import & Export Co., Ltd. (Fasten I&E), Jiangyin Hongsheng Co. Ltd. (Hongsheng), Jiangyin Fasten Steel (Fasten Steel), Jiangyin Hongyu Metal Products Co., Ltd. (Hongyu Metal), and Jiangyin Walsin Steel Cable Co., Ltd. (Walsin) (Collectively, the Fasten Companies) | 8.85 percent ad valorem
Xinhua Metal Products Company (Xinhua), Xinyu Iron and Steel Joint Stock Limited Company (Xinyu), and Xinyu Iron and Steel Limited Liability Company (Xingang) (Collectively the Xinhua Companies) | 45.85 percent ad valorem
All Others | 27.35 percent ad valorem

As a result of our Preliminary Determination and pursuant to section 703(d) of the Act, we instructed the U.S. Customs and Border Protection (CBP) to suspend liquidation of all entries of subject merchandise from the PRC which were entered or withdrawn from warehouse, for consumption on or after November 2, 2009, the date of the publication of the Preliminary Determination in the Federal Register. In accordance with sections 703(d) of the Act, we issued instructions to CBP to discontinue the suspension of liquidation for countervailing duty purposes for subject merchandise entered, or withdrawn from warehouse, on or after March 2, 2010, but to continue the suspension of liquidation of all entries from November 2, 2010, through March 1, 2010.

We will issue a CVD order and reinstate the suspension of liquidation under section 706(a) of the Act if the ITC issues a final affirmative injury determination, and will require a cash deposit of estimated countervailing duties for such entries of merchandise in the amounts indicated above. If the ITC determines that material injury, or threat of material injury, does not exist, this proceeding will be terminated and all estimated duties deposited or securities posted as a result of the suspension of liquidation will be refunded or canceled.

ITC Notification

In accordance with section 705(d) of the Act, we will notify the ITC of our determination. In addition, we are making available to the ITC all non-privileged and non-proprietary information related to this investigation. We will allow the ITC access to all privileged and business proprietary information in our files, provided the ITC confirms that it will not disclose such information, either publicly or under an APO, without the written consent of the Assistant Secretary for Import Administration.

Return or Destruction of Proprietary Information

In the event that the ITC issues a final negative injury determination, this notice will serve as the only reminder to parties subject to an administrative protective order (APO) of their responsibility concerning the destruction of proprietary information disclosed under APO in accordance with 19 CFR 351.305(a)(3). Timely written notification of the return/destruction of APO materials or conversion to judicial protective order is hereby requested. Failure to comply with the regulations and terms of an APO is a violation which is subject to sanction.

This determination is published pursuant to sections 705(d) and 777(i) of the Act.

Dated: May 14, 2010.
Ronald K. Lorentzen,
Deputy Assistant Secretary for Import Administration.

APPENDIX

List of Comments and Issues in the Decision Memorandum

Comment 1: Whether the Imposition of Countervailing Duties on the Same Imports that are Subject to Commerce's NME AD Methodology is Contrary to Law

Comment 2: Whether the Simultaneous Application of CVD Market Benchmarks and the AD Surrogate Value Methodology Unlawfully Double-Counts the Remedy for Domestic Subsidies

Comment 3: Whether the Department May Place the Burden on Respondents to “Prove” the Double-Counting of Remedies

Comment 4: Whether the Department's Application of a December 11, 2001 “Cut-Off” Date for Examining Alleged Subsidies Is Appropriate

Comment 5: Whether the GOC Failed to Cooperate in Providing Ownership Information for Producer A in a Manner that Warrants the Application of AFA

Comment 6: Whether the GOC Failed to Cooperate in Providing Ownership Information for Producer B in a Manner that Warrants the Application of AFA

Comment 7: Whether Record Evidence Demonstrates that Producer A is a GOC Authority

Comment 8: Whether Record Evidence Demonstrates that Producer B is a GOC Authority

Comment 9: Whether the GOC Failed to Indicate Whether Certain Wire Rod Suppliers Were Producers or Trading Companies

Comment 10: Whether SOEs and Firms Majority-Owned by the GOC Constitute Government Authorities

Comment 11: Whether Private Resellers of Wire Rod Should Be Treated as Government Authorities

Comment 12: Whether the Provision of Wire Rod to PC Strand Producers is Specific

Comment 13: Whether the Benchmark for the Wire Rod for LTAR Program Should Reflect All Delivery Charges, Including Shipping and Insurance Costs

Comment 14: Whether the Department Should Include Wire Rod Prices from the CRU Monitor and AMM Monitor in the LTAR Benchmark

Comment 15: Whether to Use an In-Country Benchmark to Measure Benefits Under the Provision of Wire Rod for LTAR Program

Comment 16: Whether Benefits Under the Provision of Wire Rod Program Should Be Attributed to Sales of Fasten I&E and Hongshen

Comment 17: Whether the Wire Rod Sold for LTAR Should be Attributed Only to Sales of Wire Rod

Comment 18: Whether the Department Committed a Ministerial Error for the Fasten and the Xinhua Companies Under the Provision of Wire Rod for LTAR Program And Whether the Department Should Correct the GOC Verification Report for Alleged Errors

Comment 19: Whether the Department Erred By Including Intra-Company Sales in the Denominator Used in the Net Subsidy Calculation of the Wire Rod for LTAR Program

Comment 20: The Suitability of the Benchmark Used to Calculate Benefits Under the Policy Lending Program

Comment 21: Whether GOC Policy Lending Is Specific

Comment 22: Whether Chinese Banks are Government Authorities

Comment 23: Whether The Department Should Apply AFA Available to Unverifiable Information Provided by Xinhua

Comment 24: Whether the Department Should Investigate the PRC's Alleged Undervaluation of its Currency and Find that it Constitutes a Countervailable Export Subsidy

Comment 25:Whether Provision of Land by Municipal and Provincial Governments to Respondents Was Countervailable

Comment 26:Whether the Provision of Electricity Is Not Countervailable Because the Program Provides General Infrastructure Which Does Not Constitute a Financial Contribution, Co 27, 45

[FR Doc. 2010-12292 Filed 5-20-10; 8:45 am]

BILLING CODE 3510-DS-S